DEPARTMENT OF ENERGY

Federal Energy Regulatory Commission

[Docket Nos. CP05-84-001, CP05-85-001 and CP05-86-001]

Port Arthur Pipeline, L.P.; Notice of Amendment

September 12, 2005.

Take notice that on September 2, 2005, Port Arthur Pipeline, L.P. (Port Arthur Pipeline), 101 Ash Street, HQ15, San Diego, California 92101, filed an amendment to its pending applications filed on February 28, 2005, in Docket Nos. CP05-84-000, CP05-85-000 and CP05-86-000, pursuant to section 7(c) of the Natural Gas Act (NGA), to reflect certain changes to its draft tariff in order to improve service to potential customers. In addition, Port Arthur Pipeline states that it is updating the general terms and conditions of the draft tariff to reflect the latest standards (Version 1.7) promulgated by the North America Energy Standards Board.

This amendment is on file with the Commission and open to public inspection. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

Any initial questions regarding this amendment should be directed to Georgetta J. Baker, Sempara Energy, 101 Ash Street, HQ13D, San Diego, California 92101, Phone: (619) 699-5064, Fax: (619) 699-5027 or gbaker@sempra.com or Stacy Van Goor, Sempra Energy, 101 Ash Street, HQ8, San Diego, California 92101, Phone: (619) 696-2264, Fax: (619) 696-2500 or svangoor@sempraglobal.com.

There are two ways to become involved in the Commission's review of this project. First, any person wishing to obtain legal status by becoming a party to the proceedings for this project should, on or before the comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

The Commission strongly encourages electronic filings of comments, protests, and interventions via the internet in lieu of paper. See, 18 CFR 385.2001(a)(1)(iii) and the instructions on the Commission's Web site under the “e-Filing” link.

Comment Date: October 3, 2005.

Magalie R. Salas,
Secretary.

[FR Doc. E5-5103 Filed 9-16-05; 8:45 am]

BILLING CODE 6717-01-P